DEPARTMENT OF HEALTH AND HUMAN SERVICES

National Institutes of Health

Office of the Director, National Institutes of Health; Amended Notice of Meeting

Notice is hereby given of a change in the meeting of the Advisory Committee on Research on Women's Health, April 7, 2003, 9 a.m. to 5 p.m. and on April 8, 2003 9 a.m.-12 p.m. On April 7, 2003 the meeting is being held in 31 Center Drive, Conference Room 6, Bethesda, Maryland, 20892. On April 8, 2003 the meeting is being held in the Medical Board Room, Clinical Center, Room 2C-116, 10 Center Drive, Bethesda, Maryland, 20892 which was published in the Federal Register on March 11, 2003, VOL68;11572-11573.

The meeting will be held on 4/7/2008 and 4/8/2003 in Bethesda, Maryland. The meeting is open to the public, with attendance limited to space available.

Dated: March 25, 2003.
LaVerne Y. Stringfield,
Dierctor, Office of Federal Advisory Committee Policy.

[FR Doc. 03-7575 Filed 3-28-03; 8:45 am]

BILLING CODE 4140-01-M